DEPARTMENT OF HEALTH AND HUMAN SERVICES

Indian Health Service

Notice of Update to the Purchased/Referred Care Delivery Area for the Mississippi Band of Choctaw Indians

AGENCY: Indian Health Service, Department of Health and Human Services.

ACTION: Notice.

SUMMARY: Notice is hereby given that the Indian Health Service (IHS) has updated the geographic boundaries of the purchased/referred care delivery area (PRCDA) for the Mississippi Band of Choctaw Indians to include the counties of Carroll and Jackson in the State of Mississippi and the county of Lauderdale in the State of Tennessee. The PRCDA for the Mississippi Band of Choctaw Indians now comprises the Mississippi counties of Attala, Carroll, Jackson, Jasper, Jones, Kemper, Leake, Neshoba, Newton, Noxubee, Scott, and Winston, and the Tennessee county of Lauderdale. The sole purpose of this expansion is to authorize additional Mississippi Band of Choctaw Indians members and beneficiaries to receive purchased/referred care (PRC) services.

DATES: This update is effective as of April 2, 2024.

ADDRESSES: This notice can be found at https://www.federalregister.gov. Written requests for information should be delivered to: CAPT John Rael, Director, Office of Resource Access and Partnerships, Indian Health Service, 5600 Fishers Lane, Mail Stop 10E85C, Rockville, MD 20857, or by phone at (301) 443-0969 (this is not a toll-free number).

SUPPLEMENTARY INFORMATION: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). Under the Act of June 29, 2000, Public Law 106-228 at 1(a)(1), “all land taken in trust by the United States for the benefit of the Mississippi Band of Choctaw Indians on or after December 23, 1944, shall be part of the Mississippi Choctaw Indian Reservation.” (114 Stat. 462). A Federal Register Notice published by the Bureau of Indian Affairs on April 3, 2007, further provides that “. . . when additional lands are taken into trust by the United States for the Mississippi Band of Choctaw Indians . . . each such additional land parcel shall automatically become a part of the Mississippi Choctaw Indian Reservation without the need for any other formal declaration to that effect. . .”. 72 FR 15899. In 2012 and 2013, parcels of land in Carroll and Jackson Counties, Mississippi and Lauderdale County, Tennessee were taken into trust by the United States for the benefit of the MBCI. Once taken into trust, these parcels automatically became a part of the MBCI reservation. Accordingly, and at the request of the MBCI, the IHS is now updating the MBCI's PRCDA to include these three counties.

There are no other counties which share a common boundary with the new reservation lands, nor is the MBCI requesting to include in their PRCDA any additional counties which do not hold reservation lands. No existing PRCDAs overlap with the MBCI's updated PRCDA. The MBCI estimates that updating the Tribe's PRCDA will allow an additional 327 individuals, including tribal members, persons of Indian descent residing on the reservation, and other eligible individuals with close social and economic ties to the MBCI to become PRC-eligible. The MBCI further estimates that a significant portion of the newly PRC-eligible individuals have third-party insurance, which will help defray the costs associated with the expanded PRCDA.

An updated listing of the PRCDAs for all federally recognized Tribes may be accessed via a link on the IHS PRCDA Expansion website (https://www.ihs.gov/prc/prcda-expansion).

This notice does not contain reporting or recordkeeping requirements subject to prior approval by the Office of Management and Budget under the Paperwork Reduction Act.

Roselyn Tso,
Director, Indian Health Service.

[FR Doc. 2024-06905 Filed 4-1-24; 8:45 am]

BILLING CODE 4165-16-P